DEPARTMENT OF COMMERCE

Census Bureau

Proposed Information Collection; Comment Request; Information and Communication Technology Survey

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before October 25, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Valerie Strang, Census Bureau, Room 6K171—South Building, Washington, DC 20233 (or via the Internet at valerie.cherry.strang@census.gov).

SUPPLEMENTARY INFORMATION:

I. Abstract

The U.S. Census Bureau plans to conduct the 2010 through 2012 Information and Communication Technology Survey (ICTS). The annual survey collects data on two categories of non-capitalized expenses (purchases; and operating leases and rental payments) for four types of information and communication technology equipment and software (computers and peripheral equipment; ICT equipment, excluding computers and peripherals; electromedical and electrotherapeutic apparatus; and computer software, including payroll associated with software development). The survey also collects capital expenditures data on the four types of ICT equipment and software cited above. Only non-farm, non-governmental companies, organizations, and associations operating in the United States are included in this survey.

The Bureau of Economic Analysis (BEA), Federal Reserve Board, Bureau of Labor Statistics and industry analysts use these data to evaluate productivity and economic growth prospects. In addition, the ICTS provides improved source data significant to BEA's estimate of the investment component of Gross Domestic Product, capital stock estimates, and capital flow tables.

II. Method of Collection

The Census Bureau will primarily use mail out/mail back survey forms to collect data. Companies can respond via Centurion (the Bureau's online reporting system), by mail, or by using our toll-free number to reply via secure facsimile machine. Companies will be asked to respond to the survey within 30 days of the initial mailing. Letters and/or telephone calls encouraging participation will be directed to respondents that have not responded by the designated time.

Employer companies will be mailed one of three forms based on their diversity of operations and number of industries with payroll. Companies operating in only one industry will receive an ICT-1(S) form. Companies operating in more than one, but less than nine industries will receive an ICT-1(M) form. And, companies that operate in nine or more industries will receive an ICT-1(L).

III. Data

OMB Control Number: 0607-0909.

Form Number: ICT-1(S), ICT-1(M), and ICT-1(L).

Type of Review: Regular submission.

Affected Public: Businesses or other for-profit organizations, non-profit institutions, small businesses or organizations.

Estimated Number of Respondents: Approximately 47,000 employer companies.

Estimated Time per Response: The average for all respondents is 1.80 hours with the range from less than 1 hour to 21 hours.

Estimated Total Annual Burden Hours: 84,610.

Estimated Total Annual Cost: $2.5 million.

Respondent's Obligation: Mandatory.

Legal Authority: Title 13 U.S.C. Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 20, 2010.
Glenna Mickelson,
Management Analyst, Office of the Chief Information Officer.

[FR Doc. 2010-21204 Filed 8-25-10; 8:45 am]

BILLING CODE 3510-07-P